DEPARTMENT OF HEALTH AND HUMAN SERVICES

Centers for Disease Control and Prevention

[30Day-25-24FZ]

Agency Forms Undergoing Paperwork Reduction Act Review

In accordance with the Paperwork Reduction Act of 1995, the Centers for Disease Control and Prevention (CDC) has submitted the information collection request titled “Annual Progress Reports for Injury Control Research Centers (ICRC)” to the Office of Management and Budget (OMB) for review and approval. CDC previously published a “Proposed Data Collection Submitted for Public Comment and Recommendations” notice on June 4, 2024 to obtain comments from the public and affected agencies. CDC received one non-substantive comment related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Annual Progress Reports for Injury Control Research Centers (ICRC)—New—National Center for Injury Prevention and Control (NCIPC), Centers for Disease Control and Prevention (CDC).

Background and Brief Description

In 1987, the Centers for Disease Control and Prevention (CDC) and the National Center for Injury Prevention and Control (NCIPC) began funding Injury Control Research Centers (ICRCs) at academic research institutions throughout the United States. ICRCs focus on three core functions—research, training, and outreach—for issues of local and national importance, including the prevention of adverse childhood experiences; child abuse and neglect; drowning; drug overdose; intimate partner violence; older adult falls; sexual violence; suicide; traumatic brain injuries, and the promotion of transportation safety. ICRCs foster multidisciplinary strategies for addressing these complex problems and disseminating research findings. In addition to conducting cutting-edge, multidisciplinary research, ICRCs train and develop the current and next generation of researchers and public health professionals to help ensure that there is an adequate supply of qualified practitioners and researchers for advancing prevention research, addressing new problems, and reaching new populations across the nation. Finally, ICRCs work with states and communities to translate research findings into action. ICRCs provide partner organizations with technical assistance on programs, public health infrastructure, and the integration of resources at the local, state, and national levels. Areas of emphasis within each ICRC are determined by the expertise of the faculty and the public health needs and opportunities identified through the ICRC's outreach activities. This collaborative approach is a vital component in the success of efforts to make an impact on population-level reduction in injury-related harm.

ICRCs form a national network of expertise and innovation in injury prevention and control. ICRC grants are typically funded in five-year funding cycles. The Centers for Disease Control and Prevention (CDC) requests OMB approval to electronically collect annual progress report (APR) information and Success Stories from the 11 currently funded ICRCs. Grantees will report progress and activity information to CDC on an annual schedule.

The information that will be collected will provide crucial data for program performance monitoring and will improve CDC's ability to respond in a timely manner to requests for information about the program from the Department of Health and Human Services (HHS), the White House, Congress, and other sources. The information that will be collected will also strengthen CDC's ability to monitor grantee progress towards stated grant research, training, and outreach objectives, provide data-driven technical assistance, and disseminate Success Stories about what is working to reduce unintentional and intentional injuries.

To improve and innovate through evaluation, research, and quality improvement; investigate, diagnose, and address health hazards and root causes; communicate effectively to inform and educate; strengthen, support, and mobilize communities and partnerships; and create, champion, and implement policies, plans, and laws are five of the noted public health activities that all public health systems should undertake. CDC ICRC grantees do all of these activities, and the systematic collection of data, annually, is the best way for CDC to understand this work. This APR information collection will enable grantees to submit accurate, reliable, and timely activity and performance data to the CDC.

CDC requests OMB approval for an estimated 231 annual burden hours. There is no cost to respondents other than their time.

Estimated Annualized Burden Hours
Type of respondents | Form name | Number of respondents | Number of responses per respondent | Average burden per response (in hours)
Injury Research Center (ICRC) Grantees | ICRC Indicators Data Collection Annual Progress Report | 11 | 1 | 8
| Publication Table | 11 | 1 | 8
| Success Stories Template | 11 | 5 | 1

Jeffrey M. Zirger,
Lead, Information Collection Review Office, Office of Public Health Ethics and Regulations, Office of Science, Centers for Disease Control and Prevention.

[FR Doc. 2024-26779 Filed 11-15-24; 8:45 am]

BILLING CODE 4163-18-P